DEPARTMENT OF HOMELAND SECURITY

Coast Guard

[Docket No. USCG-2017-0194]

Waterway Suitability Assessment for Operation of Liquefied Hazardous Gas Terminal; Port Arthur, TX

AGENCY: Coast Guard, DHS.

ACTION: Request for comments; extension of comment period.

SUMMARY: We are extending the comment period on the subject request for comments that we published August 14, 2017. We are extending the deadline by 30 days because interested parties indicated the need for additional time to respond due to the effects from Hurricane Harvey. The comment period is now open through November 30, 2017.

DATES: Comments and related material must be received on or before November 30, 2017.

ADDRESSES: You may submit comments identified by docket number USCG-2017-0194 using the Federal eRulemaking Portal at http://www.regulations.gov. See the “Public Participation and Request for Comments” portion of the SUPPLEMENTARY INFORMATION section below for further instructions on submitting comments.

FOR FURTHER INFORMATION CONTACT: If you have questions on this notice, call or email Commander Loan T. O'Brien, U.S. Coast Guard; telephone 409-723-6564, email, Loan.T.O'Brien@uscg.mil.

SUPPLEMENTARY INFORMATION: The Coast Guard is extending the comment period on the request for comments entitled “Waterway Suitability Assessment for Operation of Liquefied Hazardous Gas Terminal; Port Arthur, TX” that we published in the Federal Register on August 14, 2017 (82 FR 37887). We are extending the comment period by 30 days to allow interested persons more time to comment. You may not submit comments through November 30, 2017.

Public Participation and Request for Comments

We encourage you to submit comments and related material in response to this notice through the Federal eRulemaking Portal at http://www.regulations.gov. We will consider all submissions and may adjust our final action based on your comments. If you submit a comment, please include the docket number for this notice, indicate the specific section of this document to which each comment applies, and provide a reason for each suggestion or recommendation.

If your material cannot be submitted using http://www.regulations.gov, contact the person in the FOR FURTHER INFORMATION CONTACT section of this document for alternate instructions. Documents mentioned in this notice, and all public comments, are in our online docket at http://www.regulations.gov and can be viewed by following that Web site's instructions. Additionally, if you go to the online docket and sign up for email alerts, you will be notified when comments are posted or a final rule is published. To view comments, go to http://www.regulations.gov, type the docket number “USCG-2017-0194” in the “SEARCH” box and click “SEARCH.” Click on “Open Docket Folder” on the line associated with this notice and request for comments. We accept anonymous comments. All comments received will be posted without change to http://www.regulations.gov and will include any personal information you have provided. For more about privacy and the docket, you may review a Privacy Act notice regarding the Federal Docket Management System in the March 24, 2005, issue of the Federal Register (70 FR 15086).

Dated: October 25, 2017.
Jaqueline Twomey,
Captain, U.S. Coast Guard, Captain of the Port, Port Arthur.

[FR Doc. 2017-23578 Filed 10-30-17; 8:45 am]

BILLING CODE 9110-04-P